DEPARTMENT OF COMMERCE

National Oceanic and Atmospheric Administration

50 CFR Part 223

[I.D 020904A]

RIN 0648-AR69

Sea Turtle Conservation; Public Hearing Notification

AGENCY: National Marine Fisheries Service (NMFS), National Oceanic and Atmospheric Administration (NOAA), Commerce.

ACTION: Notice of public hearing.

SUMMARY: The National Marine Fisheries Service (NMFS) is announcing its intent to hold a public hearing to inform interested parties of the proposed prohibitions and restrictions on Virginia pound net leaders and to accept public comments on this action.

DATES: NMFS will hold a public hearing at the Holiday Inn SunSpree Resort - Virginia Beach, on Thursday, February 19, 2004, at 7 p.m., eastern daylight time.

ADDRESSES: The Holiday Inn SunSpree Resort - Virginia Beach is located at 3900 Atlantic Avenue, at the corner of Atlantic Avenue and 39th Street, Virginia Beach, VA 23451 (ph. 757-428-1711). The public hearing will take place in the Cape Henry Room.

FOR FURTHER INFORMATION CONTACT: Carrie Upite (ph. 978-281-9328 x6525), NMFS, One Blackburn Drive, Gloucester, MA 01930.

SUPPLEMENTARY INFORMATION: A proposed rule was issued on February 6, 2004 (69 FR 5810), which proposes to prohibit the use of all pound net leaders from May 6 to July 15 each year in the Virginia waters of the mainstem Chesapeake Bay, south of 37° 19.0′ N. lat. and west of 76° 13.0′ W. long., and all waters south of 37° 13.0′ N. lat. to the Chesapeake Bay Bridge Tunnel at the mouth of the Chesapeake Bay, and the portion of the James River downstream of the Hampton Roads Bridge Tunnel (I-64) and the York River downstream of the Coleman Memorial Bridge (Route 17). Additionally, the rule proposes to prohibit the use of all leaders with stretched mesh greater than or equal to 8 inches (20.3 cm) and leaders with stringers from May 6 to July 15 each year in the Virginia waters of the Chesapeake Bay outside the aforementioned closed area, extending to the Maryland-Virginia State line (approximately 37° 55′ N. lat., 75° 55′ W. long.) and the Rappahannock River downstream of the Robert Opie Norris Jr. Bridge (Route 3), and from the Chesapeake Bay Bridge Tunnel to the COLREGS line at the mouth of the Chesapeake Bay. Additional information on the justification for this action can be found in that proposed rule.

NMFS recognizes the need and importance to obtain public comment on the proposed action. In addition to the February 19 meeting announced in this notice, NMFS is accepting written comments on the proposed action. Written comments on the proposed rule or requests for copies of the literature cited, the draft Environmental Assessment, or Regulatory Impact Review and Initial Regulatory Flexibility Analysis should be addressed to the Assistant Regional Administrator for Protected Resources, NMFS, One Blackburn Drive, Gloucester, MA 01930. Comments and requests for supporting documents may also be sent via fax to 978-281-9394. Comments will not be accepted if submitted via e-mail or the Internet. The public comment period closes at 5 p.m., eastern daylight time, on March 8, 2004.

In preparing the final rule for this action, NMFS will fully consider the public comments received during the 30-day comment period (either in writing or verbally during the public hearing).

Special Accommodations

This meeting is accessible to people with disabilities. Requests for sign language interpretation or other auxiliary aids should be directed to Carrie Upite, telephone 978-281-3928 x6525, fax 978-281-9394, at least 5 days before the scheduled meeting date.

Authority: 16 U.S.C. 1531 et seq.

Dated: February 12, 2004.
Laurie K. Allen,
Director, Office of Protected Resources, National Marine Fisheries Service.

[FR Doc. 04-3638 Filed 2-18-04; 8:45 am]

BILLING CODE 3510-22-S